DEPARTMENT OF TRANSPORTATION

Federal Aviation Administration

14 CFR Part 39

[Docket No. FAA-2006-23840; Directorate Identifier 2005-NM-232-AD; Amendment 39-14549; AD 2006-07-22]

RIN 2120-AA64

Airworthiness Directives; BAE Systems (Operations) Limited Model BAe 146 and Model Avro 146-RJ Airplanes

AGENCY: Federal Aviation Administration (FAA), Department of Transportation (DOT).

ACTION: Final rule.

SUMMARY: The FAA is adopting a new airworthiness directive (AD) for certain BAE Systems (Operations) Limited Model BAe 146 and Model Avro 146-RJ airplanes. This AD requires modifying the control cable duct on the left bulkhead structure at frame 12, and, for certain airplanes, the forward toilet bulkhead structure. This AD results from a structural analysis by the manufacturer that revealed that rapid decompression of the flight compartment with the door closed could cause structural deformation of the left bulkhead structure at frame 12, and of the attached cable duct structure. The duct structure protects the cables for the primary flight controls. We are issuing this AD to prevent deformation of the cable duct structure in the event of a rapid decompression, which could result in restriction of the primary flight controls and consequent reduced controllability of the airplane.

DATES: This AD becomes effective May 16, 2006.

The Director of the Federal Register approved the incorporation by reference of a certain publication listed in the AD as of May 16, 2006.

ADDRESSES: You may examine the AD docket on the Internet at http://dms.dot.gov or in person at the Docket Management Facility, U.S. Department of Transportation, 400 Seventh Street SW., Nassif Building, Room PL-401, Washington, DC.

Contact British Aerospace Regional Aircraft American Support, 13850 Mclearen Road, Herndon, Virginia 20171, for service information identified in this AD.

FOR FURTHER INFORMATION CONTACT: Dan Rodina, Aerospace Engineer, International Branch, ANM-116, Transport Airplane Directorate, FAA, 1601 Lind Avenue, SW., Renton, Washington 98055-4056; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain BAE Systems (Operations) Limited Model BAe 146 and Model Avro 146-RJ airplanes. That NPRM was published in the Federal Register on February 9, 2006 (71 FR 6681). That NPRM proposed to require modifying the control cable duct on the left bulkhead structure at frame 12, and, for certain airplanes, the forward toilet bulkhead structure.

Comments

We provided the public the opportunity to participate in the development of this AD. We received no comments on the NPRM or on the determination of the cost to the public.

Conclusion

We have carefully reviewed the available data and determined that air safety and the public interest require adopting the AD as proposed.

Costs of Compliance

This AD affects about 19 airplanes of U.S. registry.

The modification specified in Part 1 of the service bulletin will take about 21 work hours per airplane, at an average labor rate of $65 per work hour. Required parts will be free of charge. Based on these figures, the estimated cost of the AD is $1,365 per airplane.

The modification specified in Part 2 of the service bulletin will take about 5 work hours per airplane, at an average labor rate of $65 per work hour. Required parts will be free of charge. Based on these figures, the estimated cost of the AD is $325 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-07-22 BAE Systems (Operations) Limited (Formerly British Aerospace Regional Aircraft): Amendment 39-14549. Docket No. FAA-2006-23840; Directorate Identifier 2005-NM-232-AD.

Effective Date

(a) This AD becomes effective May 16, 2006.

Affected ADs

(b) None.

Applicability

(c) This AD applies to BAE Systems (Operations) Limited Model BAe 146-100A, -200A, and -300A series airplanes, and Model Avro 146-RJ70A, 146-RJ85A, and 146-RJ100A airplanes; certificated in any category; as identified in BAE Systems (Operations) Limited Modification Service Bulletin SB.25-459-36241A, Revision 1, dated March 30, 2005.

Unsafe Condition

(d) This AD results from a structural analysis by the manufacturer which revealed that rapid decompression of the flight compartment with the door closed could cause structural deformation of the left bulkhead structure at frame 12, and of the attached cable duct structure. The duct structure protects the cables for the primary flight controls. We are issuing this AD to prevent deformation of the cable duct structure in the event of a rapid decompression, which could result in restriction of the primary flight controls and consequent reduced controllability of the airplane.

Compliance

(e) You are responsible for having the actions required by this AD performed within the compliance times specified, unless the actions have already been done.

Modification

(f) Within 9 months after the effective date of this AD: Do the actions specified in either paragraph (f)(1) or (f)(2) of this AD by doing all the applicable actions specified in the Accomplishment Instructions of BAE Systems (Operations) Limited Modification Service Bulletin SB.25-459-36241A, Revision 1, dated March 30, 2005.

(1) For airplanes on which BAE Modification HCM50303C has been installed, but on which BAE Modification HCM30033E, HCM30033F, HCM30033G, or HCM30033N has not been installed: Modify the control cable duct on the left bulkhead structure at frame 12 in accordance with Part 1 of the Accomplishment Instructions of the service bulletin.

(2) For airplanes on which BAE Modification HCM50303C has been installed, and on which BAE Modification HCM30033E, HCM30033F, HCM30033G, or HCM30033N has also been installed: Modify the control cable duct on the left bulkhead structure at frame 12 and the forward toilet bulkhead structure in accordance with Parts 1 and 2 of the Accomplishment Instructions of the service bulletin.

Modifications Accomplished According to Previous Issue of Service Bulletin

(g) Modifications accomplished before the effective date of this AD in accordance with BAE Systems (Operations) Limited Modification Service Bulletin SB.25-459-36241A, dated July 22, 2004, are considered acceptable for compliance with the corresponding action specified in this AD.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) British airworthiness directive G-2005-0026, dated September 21, 2005, also addresses the subject of this AD.

Material Incorporated by Reference

(j) You must use BAE Systems (Operations) Limited Modification Service Bulletin SB.25-459-36241A, Revision 1, dated March 30, 2005, to perform the actions that are required by this AD, unless the AD specifies otherwise. The Director of the Federal Register approved the incorporation by reference of this document in accordance with 5 U.S.C. 552(a) and 1 CFR part 51. Contact British Aerospace Regional Aircraft American Support, 13850 Mclearen Road, Herndon, Virginia 20171, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on March 30, 2006.
Ali Bahrami,
Manager, Transport Airplane Directorate, Aircraft Certification Service.

[FR Doc. 06-3379 Filed 4-10-06; 8:45 am]

BILLING CODE 4910-13-P